COMMISSION ON CIVIL RIGHTS

Sunshine Act Meeting Notice

AGENCY: United States Commission on Civil Rights.

ACTION: Notice of Commission business meeting.

DATES: Date and Time: Wednesday, October 14, 2015; 10:00 a.m. EST.

ADDRESSES: Place: 1331 Pennsylvania Ave. NW., Suite 1150, Washington, DC.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION:

Meeting Agenda

This meeting is open to the public.

I. Approval of Agenda

II. Program Planning

• Status on pending commission reports and hiring of contractors by OCRE

• Presentation of outline on hearing plan for 2016 Statutory Enforcement Report on Environmental Justice

• Discussion and vote on dates for 2016 hearings on

○ Municipal Fees—March 18th 2016

○ Elementary and Secondary School Education—May 20th 2016

• Discussion about whether the December 11th event at the Lincoln Cottage should include a Commission Business Meeting or be limited to a ceremony commemorating the passage of the 13th Amendment

• Discussion and vote on part B findings and recommendations for Peaceful Coexistence report

III. Management and Operations

• Status on agency budget under a Continuing Resolution

• Staff Director Report

IV. State Advisory Committee (SAC) Appointments

• Maryland

V. Adjourn Meeting

Dated: October 6, 2015.
David Mussatt,
Chief, Regional Programs Unit, U.S. Commission on Civil Rights.

[FR Doc. 2015-25888 Filed 10-7-15; 11:15 am]

BILLING CODE 6335-01-P